DEPARTMENT OF THE INTERIOR

National Park Service

Minor Boundary Revision at Rocky Mountain National Park

AGENCY: National Park Service, Interior.

ACTION: Notification of park boundary revision.

SUMMARY: Notice is hereby given, pursuant to 16 U.S.C. 4601-9(c)(1), the boundary of Rocky Mountain National Park is modified to include an additional 0.13 acres of land identified as Tract 03-137, tax parcel number 119304204001. The land is located in Grand County, Colorado, immediately adjacent to the current western boundary of Rocky Mountain National Park and northeast of Grand Lake. The boundary revision is depicted on Map No. 121/105,475 dated August 2010. The map is available for inspection at the following locations: National Park Service, Intermountain Region Land Resources Program Center, 12795 W. Alameda Parkway, Lakewood, CO 80225-0287 and National Park Service, Department of the Interior, Washington, DC 20240.

FOR FURTHER INFORMATION CONTACT: National Park Service, Glenna F. Vigil, Chief, Land Resources Program Center, Intermountain Region, P.O. Box 25287, Denver, Colorado 80225-0287, 303-969-2610.

DATES: The effective date of this boundary revision is May 20, 2011.

SUPPLEMENTARY INFORMATION: 16 U.S.C. 460l-9 (c)(1) provides that after notifying the House Committee on Natural Resources and the Senate Committee on Energy and Natural Resources, the Secretary of the Interior is authorized to make this boundary revision upon publication of notice in the Federal Register. The Committees have been notified of this boundary revision. Inclusion of these lands within the Park boundary will enable the landowner to donate the subject land to the National Park Service. The inclusion and acquisition of this property will allow the Summerland Park Road/North Inlet Trail to remain in its present location and alignment as relocation the road has been determined to be detrimental to Park resources.

Dated: May 5, 2011.
John Wessels,
Regional Director, Intermountain Region.

[FR Doc. 2011-12497 Filed 5-19-11; 8:45 am]

BILLING CODE 4310-D8-P